DEPARTMENT OF TRANSPORTATION

Office of the Secretary

Aviation Proceedings, Agreements Filed the Week Ending October 27, 2006

The following Agreements were filed with the Department of Transportation under the Sections 412 and 414 of the Federal Aviation Act, as amended (49 U.S.C. 1382 and 1384) and procedures governing proceedings to enforce these provisions. Answers may be filed within 21 days after the filing of the application.

Docket Number: OST-2006-26167.

Date Filed: 10-23-2006.

Parties: Members of the International Air Transport Association.

Subject:

Mail Vote 514—Resolution 010c,

TC3 Japan, Korea-South East Asia,

Special Passenger Amending Resolution between Japan and China excluding Hong Kong SAR and Macao SAR

(Memo 1002).

Intended effective date: 01 November 2006.

Docket Number: OST-2006-26186.

Date Filed: 10-25-2006.

Parties: Members of the International Air Transport Association.

Subject:

TC23/TC123 Mail Vote 511,

Between Africa and South West Pacific,

Except between South Africa and Australia (Memo 0315).

Technical Correction: TC23/TC123 Mail Vote 511

Between Africa and South West Pacific

Except between South Africa and Australia

(Memo 0317).

Intended effective date: 01 April 2007.

Docket Number: OST-2006-26188.

Date Filed: 10-25-2006.

Parties: Members of the International Air Transport Association.

Subject:

TC23/TC123 Mail Vote 512.

Between South Africa and Australia (Memo 0316).

Technical Correction: TC23/TC123 Mail Vote 512.

Between South Africa and Australia (Memo 0318).

Intended effective date: 01 April 2007.

Docket Number: OST-2006-26189.

Date Filed: 10-25-2006.

Parties: Members of the International Air Transport Association.

Subject:

PTC23/TC123 Middle East Japan/Korea.

Expedited Resolution 002ff.

(Memo 0311).

Intended effective date: 01 December 2007.

Docket Number: OST-2006-26194.

Date Filed: 10-25-2006.

Parties: Members of the International Air Transport Association.

Subject:

TC23/TC123 Europe-South West Pacific

Resolutions and Specified Fares Tables (Memo 0109).

Minutes: TC23 Europe-South West Pacific, South Asian

Subcontinent (Memo 0111).

Intended effective date: 01 April 2007.

Docket Number: OST-2006-26196.

Date Filed: 10-25-2006.

Parties: Members of the International Air Transport Association.

Subject:

TC23 Mail Vote 509.

Between Europe and South Asian Subcontinent.

(Memo 0151).

TC23 Europe-South West Pacific, South Asian

Subcontinent (Memo 0153).

Intended effective date: 01 April 2007.

Renee V. Wright,
Program Manager Docket Operations, Federal Register Liaison.

[FR Doc. E6-20236 Filed 11-28-06; 8:45 am]

BILLING CODE 4910-9X-P